NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates and Times: November 09, 2014; 6 p.m.-9 p.m.

November 10, 2014; 8 a.m.-9:30 p.m.

November 11, 2014; 8 a.m.-3:30 p.m.

Place: Jackson State University, Jackson, MS.

Type of Meeting: Part-Open.

Contact Person: Dr. Charles Bouldin, Program Director, Partnership for Research and Education in Materials Program, Division of Materials Research, Room 1065, National Science Foundation, 4201 Wilson Boulevard, Arlington, VA 22230, Telephone (703) 292-4920.

Purpose of Meeting: To provide advice and recommendations concerning further support of the Partnerships for Research and Education in Materials (PREM).

Agenda

November 9

6 p.m.-9 p.m. Executive Session and Dinner for Site Visit Team—(Closed).

November 10

8 a.m.-8:30 a.m. Executive session—(Closed).

8:30 a.m.-4:30 p.m. Presentations by PREM Director, co-PIs, Institutional Representatives and program participants—(Open).

4:30 p.m.-6:30 p.m. Executive Session for Site Visit Team—(Closed).

6:30 p.m.-9:00 p.m. Dinner for Panel and Faculty—(Open).

November 11

8 a.m.-3 p.m. Executive Session and Director's Response to Feedback, Debriefing with PREM Director and co-PIs—(Closed).

Reason for Closing: The work being reviewed may include information of a proprietary or confidential nature, including technical information; financial data, such as salaries and personal information concerning individuals associated with the proposals. These matters are exempt under 5 U.S.C. 552 b(c), (4) and (6) of the Government in the Sunshine Act.

Dated: September 23, 2014.
Suzanne Plimpton,
Acting, Committee Management Officer.

[FR Doc. 2014-22961 Filed 9-25-14; 8:45 am]

BILLING CODE 7555-01-P